FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011284-066.

Title: Ocean Carrier Equipment Management Association Agreement.

Parties: APL Co. Pte. Ltd.; American President Lines, Ltd.; A.P. Moller-Maersk A/S; CMA CGM, S.A.; Atlantic Container Line; China Shipping Container Lines Co., Ltd; China Shipping Container Lines (Hong Kong) Co., Ltd.; Companhia Libra de Navegacao; Compania Libra de Navegacion Uruguay S.A.; Compania Sudamericana de Vapores, S.A.; COSCO Container Lines Company Limited; Crowley Maritime Corporation; Evergreen Line Joint Service Agreement; Hamburg-Süd; Hapag-Lloyd AG; Hapag-Lloyd USA LLC; Hanjin Shipping Co., Ltd.; Hyundai Merchant Marine Co. Ltd.; Kawasaki Kisen Kaisha, Ltd.; Mediterranean Shipping Company, S.A.; Mitsui O.S.K. Lines Ltd.; Nippon Yusen Kaisha Line; Norasia Container Lines Limited; Orient Overseas Container Line Limited; Yang Ming Marine Transport Corp.; and Zim Integrated Shipping Services, Ltd.

Filing Party: Jeffrey F. Lawrence, Esq.; Sher & Blackwell LLP; 1850 M Street, NW; Suite 900; Washington, DC 20036.

Synopsis: The amendment restates the agreement and modifies the delegations of authority to the Senior Steering Committee, creates an Executive Committee and an Operations Council, and describes the voting procedures.

Agreement No.: 012085.

Title: 2007 Crane Purchase, Relocation and Modification Agreement Between Matson Navigation Company, Inc. and Horizon Lines, LLC.

Parties: Horizon Lines, LLC and Matson Navigation Company, Inc.

Filing Party: Matthew Thomas, Esq.; Reed Smith LLP; 301 K Street, NW.; Suite 1100-East Tower; Washington, DC 20005.

Synopsis: The agreement authorizes the parties to purchase cranes in Los Angeles to be transported for installation and use in Guam.

Agreement No.: 012086.

Title: Maersk Line/Horizon Lines Space Charter Agreement.

Parties: A.P. Moller-Maersk and Horizon Lines, LLC.

Filing Party: Matthew Thomas, Esq.; Reed Smith LLP; 301 K Street, NW.; Suite 1100-East Tower; Washington, DC 20005; and Wayne R. Rohde, Esq.; Sher and Blackwell LLP; 1850 M Street NW., Suite 900; Washington, DC 20036.

Synopsis: The agreement authorizes Horizon Lines to charter space to Maersk Line on a trans-Pacific service string operated by Horizon Lines between ports in the U.S. Pacific Coast including Hawaii, Alaska, Guam and Spain and ports in the Peoples' Republic of China and Taiwan.

Dated: November 27, 2009.
By Order of the Federal Maritime Commission.
Karen V. Gregory,
Secretary.

[FR Doc. E9-28818 Filed 12-2-09; 8:45 am]

BILLING CODE P